NATIONAL AERONAUTICS AND SPACE ADMINISTRATION

[Notice (09-062)]

Aerospace Safety Advisory Panel; Meeting

AGENCY: National Aeronautics and Space Administration (NASA).

ACTION: Notice of meeting.

SUMMARY: In accordance with the Federal Advisory Committee Act, Public Law 92-463, as amended, the National Aeronautics and Space Administration announces a forthcoming meeting of the Aerospace Safety Advisory Panel.

DATES: Thursday, July 23, 2009, 10 a.m. to 12 Noon Pacific Time.

ADDRESSES: Jet Propulsion Laboratory (JPL), Von Karman Auditorium, 4800 Oak Grove Drive, Pasadena, CA 91109.

FOR FURTHER INFORMATION CONTACT: Ms. Kathy Dakon, Aerospace Safety Advisory Panel Executive Director, National Aeronautics and Space Administration, Washington, DC 20546, (202) 358-0732.

SUPPLEMENTARY INFORMATION: The Aerospace Safety Advisory Panel will hold its third Quarterly Meeting for 2009. This discussion is pursuant to carrying out its statutory duties for which the Panel reviews, identifies, evaluates, and advises on those program activities, systems, procedures, and management activities that can contribute to program risk. Priority is given to those programs that involve the safety of human flight. The agenda will include JPL Overview; Office of Safety Missions Success Overview; Environmental Health and Safety Status; and Commercial Orbital Transportation Services (COTS) Status: 2007-2009 and Human Rating.

The meeting will be open to the public up to the seating capacity of the room. Seating will be on a first-come basis. Attendees will be required to sign a visitor's register. Photographs will only be permitted during the first 10 minutes of the meeting. During the first 30 minutes of the meeting, members of the public may make a 5-minute verbal presentation to the Panel on the subject of safety in NASA. Any member of the public is permitted to file a written statement with the Panel at the time of the meeting. Verbal presentations and written comments should be limited to the subject of safety in NASA and should be received 2 working days in advance. It is imperative that the meeting be held on this date to accommodate the scheduling priorities of the key participants. To reserve a seat, file a written statement, or make a verbal presentation, please contact Ms. Susan Burch via e-mail at Susan.Burch@nasa.gov or by telephone at (202) 358-0550.

Dated: June 25, 2009.
Kathy Dakon,
Acting Director, Advisory Committee Management Division, National Aeronautics and Space Administration.

[FR Doc. E9-15607 Filed 7-1-09; 8:45 am]

BILLING CODE P